DEPARTMENT OF COMMERCE

National Oceanic and Atmospheric Administration

[RTID 0648-XA808]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Wednesday, February 10, 2021, from 9 a.m. to 4:30 p.m., and Thursday, February 11, 2021, from 9 a.m. to 1 p.m. For agenda details, see SUPPLEMENTARY INFORMATION.

ADDRESSES: This meeting will be conducted entirely by webinar. Webinar registration details will be available on the Council's website at https://www.mafmc.org/briefing/february-2021.

Council address: Mid-Atlantic Fishery Management Council, 800 N. State St, Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Wednesday, February 10, 2021

North Atlantic Right Whale Issues

NMFS presentation on Atlantic Large Whale Take Reduction Plan Draft Environmental Impact Statement and proposed rule and Draft Batched Biological Opinion.

Aquaculture Updates

NMFS presentations on Aquaculture Opportunity Areas and EEZ Regional Aquaculture Projects.

Staff River Herring and Shad White Papers

Review staff white papers on river herring and shad issues.

Bluefish Allocation and Rebuilding Amendment

Review and approve joint Public Hearing Document for the Bluefish Allocation and Rebuilding Amendment and (Board only) approve draft Commission amendment document for public comment.

Thursday, February 11, 2021

Offshore Wind Update

Receive staff update on relevant offshore wind activities.

Business Session

Committee Reports; Executive Director's Report (review and approve SOPP updates); Organization Reports; and Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Dr. Christopher Moore (see ADDRESSES), at least 5 days prior to the meeting date.

Authority: 16 U.S.C. 1801 et seq.

Dated: January 12, 2021.
Rey Israel Marquez,
Acting Deputy Director, Office of Sustainable Fisheries, National Marine Fisheries Service.

[FR Doc. 2021-00909 Filed 1-14-21; 8:45 am]

BILLING CODE 3510-22-P